DEPARTMENT OF COMMERCE

National Oceanic and Atmospheric Administration

[I.D. 021805D]

Fisheries of the Caribbean, Gulf of Mexico, and South Atlantic, Southeastern Data Assessment and Review (SEDAR) 8 Review Workshop

AGENCY: National Marine Fisheries Service (NMFS), National Oceanic and Atmospheric Administration (NOAA), Commerce.

ACTION: Notice; location change.

SUMMARY: The SEDAR process consists of a series of three workshops: a data workshop, an assessment workshop, and a review workshop. This is notification that the location for the Review workshop has changed. See SUPPLEMENTARY INFORMATION.

DATES: The review workshop will be held May 16-20, 2005.

ADDRESSES: The Review Workshop will be held at the Caribe Hilton, Los Rosales Street, San Geronimo Grounds, San Juan, Puerto Rico 00901.

FOR FURTHER INFORMATION CONTACT: Graciela Garcia-Moliner, Caribbean Fishery Management Council, 268 Munoz Rivera Ave, Suite 1108, San Juan, PR 00918-2577; telephone: (787) 766-5927; or John Carmichael, SEDAR Coordinator, SEDAR/SAFMC, One Southpark Circle, Suite 306, Charleston, SC 29407; telephone: (843) 571-4366 or toll free (866) SAFMC-10; fax: (843) 769-4520.

SUPPLEMENTARY INFORMATION: The original notice published in the Federal Register on February 25, 2005 (70 FR 9273). This notice serves as a correction to the address of one of the workshops.

The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR typically includes three workshops: (1) Data Workshop, (2) Assessment Workshop, and (3) Review Workshop. The product of the Data Workshop and the Assessment Workshop is a stock assessment report, which describes the fisheries, evaluates the status of the stock, estimates biological benchmarks, projects future population conditions, and recommends research and monitoring needs. The assessment report is independently peer reviewed at the Review Workshop. The products of the Review Workshop are a Consensus Summary Report, which reports Panel opinions regarding the strengths and weaknesses of the stock assessment and input data, and an Advisory Report, which summarizes the status of the stock. Participants for SEDAR workshops are appointed by the Regional Fishery Management Councils. Participants include data collectors, database managers, stock assessment scientists, biologists, fisheries researchers, fishermen, environmentalists, Council members, international experts, and staff of Regional Councils, Interstate Commissions, and state and federal agencies.

The Review Workshop for SEDAR 8 will review the following assessments: Caribbean yellowtail snapper, Caribbean spiny lobster, and Gulf of Mexico South Atlantic spiny lobster. The Review workshop was originally scheduled to be held at the Best Western, San Juan Airport. That location has changed to the Caribe Hilton, San Juan, PR.

The workshop schedule is as follows:

May 16, 2005, 1 p.m.-10 p.m.

May 17 19, 2005, 8 a.m.-10 p.m.

May 20, 2005, 8 a.m.-11 a.m.

Please note that during the scheduled times there will be a mixture of workshop plenary sessions and dedicated group working sessions. The actual schedule of sessions during each day will be determined on an as-needed basis.

Special Accommodations

These meetings are physically accessible to people with disabilities. Requests for sign language interpretation or other auxiliary aids should be directed to the South Atlantic Fishery Management Council office (see ADDRESSES) at least 5 business days prior to the workshop.

Dated: May 3, 2005.
Emily Menashes,
Acting Director, Office of Sustainable Fisheries, National Marine Fisheries Service.

[FR Doc. E5-2224 Filed 5-6-05; 8:45 am]

BILLING CODE 3510-22-S